DEPARTMENT OF HEALTH AND HUMAN SERVICES

Office of the Secretary

[Document Identifier: HHS-OS-0990-New-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit a new Information Collection Request (ICR), described below, to the Office of Management and Budget (OMB). Prior to submitting the ICR to OMB, OS seeks comments from the public regarding the burden estimate, below, or any other aspect of the ICR.

DATES: Comments on the ICR must be received on or before April 4, 2016.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-0990-New-60D for reference.

Information Collection Request Title: Million Hearts Social Network Analysis: Network Survey—

Abstract: The Office of the Assistant Secretary for Planning and Evaluation (ASPE) is requesting approval on a new information collection request from the Office of Management and Budget (OMB) for purposes of conducting a study about the Million Hearts Initiative and its subsequent public-private partner network.

Million Hearts focuses on aligning the efforts of federal agencies, states, regions, health systems, communities and individuals towards this common goal, ensuring the coordination of public health, clinical care, and policy approaches to this complex problem. Previous research has shown that collaborative efforts among organizations with a variety of programming, resources and skill sets result in higher levels of community impact. Integrated efforts to address public health issues by involving multiple stakeholders are predicted to result in better health outcomes than programs that do not use a collaborative approach.

ASPE is requesting comment on the burden for this study that is examining the Million Hearts public-private partnership network. The goal of developing this activity is to examine the network to identify facilitators and barriers to effective communication and collaboration in addressing large and complex public health problems like cardiovascular disease. This project wants to take the lessons learned from this unique and massive collaboration and apply them to other efforts to improve the health and well-being of Americans.

Estimated Annualized Burden Table
Type of respondent | Number of respondents | Number of responses per respondent | Average burden per response (in hours) | Total burden hours
Private Sector, State, and Local Partners | 100 | 1 | 0.5 | 50
Totals | 100 | 1 | 0.5 | 50

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Darius Taylor,
Information Collection Clearance Officer.

[FR Doc. 2016-02119 Filed 2-3-16; 8:45 am]

BILLING CODE 4150-05-P